DEPARTMENT OF THE TREASURY

Internal Revenue Service

Superfund Tax on Chemical Substances; Request To Modify List of Taxable Substances; Notice of Filing for Polyisobutylene

AGENCY: Internal Revenue Service (IRS), Treasury.

ACTION: Notice of filing and request for comments.

SUMMARY: This notice of filing announces that a petition has been filed requesting that polyisobutylene be added to the list of taxable substances. This notice of filing also requests comments on the petition. This notice of filing is not a determination that the list of taxable substances is modified.

DATES: Written comments and requests for a public hearing must be received on or before June 2, 2025.

ADDRESSES: Commenters are encouraged to submit public comments or requests for a public hearing relating to this petition electronically via the Federal eRulemaking Portal at http://www.regulations.gov (indicate public docket number IRS-2025-0032 or polyisobutylene) by following the online instructions for submitting comments. Comments cannot be edited or withdrawn once submitted to the Federal eRulemaking Portal. Alternatively, comments and requests for a public hearing may be mailed to: Internal Revenue Service, Attn: CC:PA:01:PR (Notice of Filing for Polyisobutylene), Room 5203, P.O. Box 7604, Ben Franklin Station, Washington, DC 20044. All comments received are part of the public record and subject to public disclosure. All comments received will be posted without change to www.regulations.gov, including any personal information provided. You should submit only information that you wish to make publicly available. If a public hearing is scheduled, notice of the time and place for the hearing will be published in the Federal Register.

FOR FURTHER INFORMATION CONTACT: Camille Edwards Bennehoff or Mckenzie Mixon at (202) 317-6855 (not a toll-free number).

SUPPLEMENTARY INFORMATION:

Request To Add Substance to the List

(a) Overview. A petition was filed pursuant to Rev. Proc. 2022-26 (2022-29 I.R.B. 90), as modified by Rev. Proc. 2023-20 (2023-15 I.R.B. 636), requesting that polyisobutylene be added to the list of taxable substances under section 4672(a) of the Internal Revenue Code (List). The petition requesting the addition of polyisobutylene to the List is based on weight and contains the information detailed in paragraph (b) of this document. The information is provided for public notice and comment pursuant to section 9 of Rev. Proc. 2022-26. The publication of petition information in this notice of filing is not a determination and does not constitute Treasury Department or IRS confirmation of the accuracy of the information published.

(b) Petition Content.

(1) Substance name: Polyisobutylene.

(2) Petitioner: TPC Group, Inc., an exporter of polyisobutylene.

(3) Proposed classification numbers:

(i) HTSUS numbers: 3902.20.10.00 and 3902.20.50.00.

(ii) Schedule B numbers: 3902.20.1000 and 3902.20.5000.

(iii) CAS number: 9003-27-4.

(4) Petition filing dates:

(i) Petition filing date for purposes of making a determination: February 14, 2025.

(ii) Petition filing date for purposes of section 11.02 of Rev. Proc. 2022-26, as modified by section 3 of Rev. Proc. 2023-20: October 1, 2024.

(5) Description from petition: According to the petition, polyisobutylene (“PIB”) is a polymer of isobutylene molecules (monomers) that can range in consistency from a viscous-sticky liquid to a rubbery solid depending on how long/large the polymer is. It typically has a single unsaturated double bond per polymer that can be used for further chemistry. When PIB is used in the liquid form, it is largely derivatized for use in lubricant and fuel additive dispersant applications. When PIB is used “as is”, it can be used as a component in caulks, sealants, adhesives, packaging, greases, and emulsifier formulations.

Polyisobutylene is made from isobutylene, which is an isomer of butylene—a taxable chemical. Taxable chemicals constitute 100.00 percent by weight of the materials used to produce this substance.

(6) Process identified in petition as predominant method of production of substance: The predominant method of production is the cationic polymerization of isobutylene monomers. A Lewis acid catalyst and proton donating initiator are used to generate a stable cation on the tertiary carbon of isobutylene. This cation induces a chain growth polymerization that continues to transfer the cation to the end of the polymer chain making it available for further incorporation of isobutylene monomer. The size of the polymer is dictated by the reaction temperature such that the lower the temperature the larger the polymer.

(7) Stoichiometric material consumption equation, based on process identified as predominant method of production:

n C4H8 (Isobutylene) → (C4H8)n (Polyisobutylene)

(8) Tax rate calculated by Petitioner, based on Petitioner's conversion factors for taxable chemicals used in production of substance:

(i) Tax rate: $9.74 per ton.

(ii) Conversion factors: 1.00 butylene.

(9) Public docket number: IRS-2025-0032.

Michael Beker,
Senior Counsel (Energy, Credits, and Excise Tax), IRS Office of Chief Counsel.

[FR Doc. 2025-05634 Filed 4-1-25; 8:45 am]

BILLING CODE 4830-01-P